DEPARTMENT OF COMMERCE

National Oceanic and Atmospheric Administration

Final Management Plan for the Kachemak Bay National Estuarine Research Reserve

AGENCY: Office for Coastal Management, National Ocean Service, National Oceanic and Atmospheric Administration, U.S. Department of Commerce.

ACTION: Notice of approval of the revised management plan for the Kachemak Bay National Estuarine Research Reserve.

SUMMARY: Notice is hereby given that the Office for Coastal Management, National Ocean Service, National Oceanic and Atmospheric Administration, U.S. Department of Commerce approves the revised management plan for the Kachemak Bay National Estuarine Research Reserve in Alaska. In accordance with applicable Federal regulations, the University of Alaska—Anchorage's Alaska Center for Conservation Science revised the reserve's management plan, which replaces the plan previously approved in 2012.

ADDRESSES: The approved management plan is available at https://accs.uaa.alaska.edu/kbnerr/, or by sending an email to Bree Turner of NOAA's Office for Coastal Management, at Bree.Turner@noaa.gov.

FOR FURTHER INFORMATION CONTACT: Bree Turner of NOAA's Office for Coastal Management, email at Bree.Turner@noaa.gov, or phone at 206-526-4641.

SUPPLEMENTARY INFORMATION: Pursuant to 15 CFR 921.33(c), a State must revise the management plan for a research reserve at least every five years. Changes to a reserve's management plan may be made only after receiving written approval from NOAA. NOAA approves changes to management plans via notice in the Federal Register.

On May 27, 2021, NOAA issued a notice in the Federal Register announcing a 30-day public comment period for the proposed revision of the management plan for the Kachemak Bay National Estuarine Research Reserve (86 FR 28576). Responses to written and oral comments received, and an explanation of how comments were incorporated into the final version of the revised management plan, are available in appendix D of the plan.

The management plan outlines the reserve's strategic goals and objectives; administrative structure; programs for conducting research and monitoring, education, and training; resource protection, restoration, and manipulation plans; public access and visitor use plans; consideration for future land acquisition; and facility development to support reserve operations. Since 2012, the reserve has undergone a significant State agency administration transition from the Alaska Department of Fish and Game's Division of Sport Fish to the University of Alaska-Anchorage's Alaska Center for Conservation Science. With the administrative transition, the reserve staff and programs have relocated from the Alaska Islands and Ocean Visitor Center to the reserve's field station modular office and bunkhouse. Due to the change in facilities, some of the education and training programs have changed, but many of the core research, monitoring, education, and training activities have remained the same. The revised management plan, once approved, would serve as the guiding document for the 372,000-acre Kachemak Bay National Estuarine Research Reserve for the next five years.

NOAA reviewed the environmental impacts of the revised management plan and determined that this action is categorically-excluded from further analysis under the National Environmental Policy Act, consistent with NOAA Administrative Order 216-6.

Authority: 16 U.S.C. 1451 et seq.; 15 CFR 921.33.

Keelin S. Kuipers,
Deputy Director, Office for Coastal Management, National Ocean Service, National Oceanic and Atmospheric Administration.

[FR Doc. 2022-01429 Filed 1-24-22; 8:45 am]

BILLING CODE 3510-NK-P